DEPARTMENT OF ENERGY

Federal Energy Regulatory Commission

[Project No. 9070-002]

Bypass Limited; Bypass Limited, LLC; Notice of Transfer of Exemption

1. By letter filed April 24, 2015,¹ William B. Conway, Jr., Counsel for Enel Green Power North America, Inc. (EGPNA),² informed the Commission that the exemption from licensing for the Bypass Project, FERC No. 9070, originally issued September 26, 1985,³ has been transferred to Bypass Limited, LLC, an affiliate of Enel Green Power. The project is located on the Main Canal at its intersection with the Bypass Canal in Jerome County, Idaho. The transfer of an exemption does not require Commission approval.

¹ Seventeen other exempted projects which are to be transferred were included in the April 24, 2015 letter. These exemptions will be handled under separate proceedings.

² Enel Green Power North America, Inc. is a wholly owned subsidiary of Enel Green Power. Enel Green Power is a well-capitalized publicly traded company.

³ 32 FERC ¶ 62,661, Order Granting Exemption From Licensing for a Conduit Hydroelectric Project (1985).

2. Bypass Limited, LLC is now the exemptee of the Bypass Project, FERC No. 9070. All correspondence should be forwarded to: Bypass Limited, LLC, c/o Enel Green Power North America, Inc., Attn: General Counsel, 1 Tech Drive, Suite 220, Andover, MA 01810.

Dated: May 19, 2015.
Kimberly D. Bose,
Secretary.

[FR Doc. 2015-12611 Filed 5-22-15; 8:45 am]

BILLING CODE 6717-01P